DEPARTMENT OF THE INTERIOR

Bureau of Ocean Energy Management

[Docket No. BOEM-2023-0056]

Notice of Availability of a Joint Record of Decision for the Proposed Sunrise Wind Farm Offshore New York, Massachusetts, and Rhode Island

AGENCY: Bureau of Ocean Energy Management, Interior; National Marine Fisheries Service, National Oceanic and Atmospheric Administration, Commerce; National Park Service, Interior.

ACTION: Record of decision; notice of availability.

SUMMARY: The Bureau of Ocean Energy Management (BOEM) announces the availability of the joint record of decision (ROD) on the Final Environmental Impact Statement (EIS) for the construction and operations plan (COP) submitted by Sunrise Wind, LLC (Sunrise Wind) for its proposed Sunrise Wind Offshore Wind Farm Project (Project), offshore New York, Massachusetts, and Rhode Island. The joint ROD includes the Department of the Interior's (DOI's) decision regarding the COP, the National Park Service's (NPS) decision regarding special use permits (SUPs) and a Right-of-Way (ROW) permit, and the National Marine Fisheries Service's (NMFS) plans for decision, pending completion of all statutory processes, regarding Sunrise Wind's requested Incidental Take Regulations (ITR) and an associated Letter of Authorization (LOA) under the Marine Mammal Protection Act (MMPA). NMFS has adopted the final EIS to support its decision of whether or not to promulgate the requested ITR under the MMPA. The NPS has adopted the final EIS to support its decision to issue a ROW permit and SUPs. The joint ROD concludes the National Environmental Policy Act process for each agency.

ADDRESSES: The joint ROD and associated information are available on BOEM's website at https://www.boem.gov/renewable-energy/state-activities/sunrise-wind-activities.

FOR FURTHER INFORMATION CONTACT: For information related to BOEM's action, contact Jessica Stromberg, BOEM Office of Renewable Energy Programs, 45600 Woodland Road, VAM-OREP, Sterling, Virginia 20166, (703) 787-1730, or jessica.stromberg@boem.gov. For information related to NMFS' action, contact Katherine Renshaw, National Oceanic and Atmospheric Administration (NOAA) Office of General Counsel, (302) 515-0324, or katherine.renshaw@noaa.gov. For information related to NPS' action, contact Kristin Andel, NPS Resource Planning and Compliance Program, (617) 564-7613, or Kristin_Andel@nps.gov.

SUPPLEMENTARY INFORMATION: Sunrise Wind seeks approval to construct, operate, and maintain the Project: a wind energy facility and the associated export cables on the Outer Continental Shelf (OCS) offshore New York, Massachusetts, and Rhode Island, and to construct a portion of the Project within NPS-administered waters and submerged lands within the Fire Island National Seashore. The Project would be developed within the range of design parameters outlined in the COP, subject to applicable mitigation measures.

A notice of availability for the final EIS was published in the Federal Register on December 15, 2023. On March 20, 2024, BOEM published an errata on its website that included certain edits to the North Atlantic right whale cumulative impact determination of the no action alternative in final EIS chapter 3. The errata also provide corrections for benthic resources in a no action alternative table in final EIS chapter 2. These corrections are neither substantive nor do they affect the analysis or conclusions in the final EIS.

The Project as proposed in the COP would include up to 94 wind turbine generators (WTGs) within 102 potential locations, 1 offshore converter station, inter-array cables linking the individual WTGs to the offshore substation, 1 offshore export cable, 1 onshore converter station, 1 fiber optic cable that runs through the conduit from Fire Island National Seashore (the Seashore) to the proposed wind farm, and onshore interconnection cables connecting to the existing electrical grid in New York. The WTGs, offshore substation, and inter-array cables would be located on the OCS approximately 16.4 nautical miles (nm) (18.9 statute miles[mi]) south of Martha's Vineyard, Massachusetts, approximately 26.5 nm (30.5 mi) east of Montauk, New York, and 14.5 nm (16.7 mi) from Block Island, Rhode Island, within the area defined by Renewable Energy Lease OCS-A 0487 (Lease Area). The offshore export cables would be buried below the seabed surface on the U.S. OCS and State of New York-owned submerged lands, including submerged lands where the United States holds an easement for use and occupancy for the purposes of the Seashore. The onshore export cables, substation, and grid connection would be located in Holbrook, New York. After carefully considering public comments on the draft EIS and the alternatives described and analyzed in the final EIS, DOI selected Alternative C-3b (84 WTGs within 87 potential locations), which combines elements of the “Habitat Impact Minimization Alternative” and the results of BOEM's independent feasibility review. This combination is the preferred alternative identified in the final EIS. The anticipated mitigation, monitoring, and reporting requirements, which will be included in BOEM's COP approval as terms and conditions, are included in the ROD, which is available at: https://www.boem.gov/renewable-energy/state-activities/sunrise-wind-activities.

NMFS has adopted BOEM's final EIS to support its decision of whether or not to promulgate the requested ITR and issue the associated LOA to Sunrise Wind. NMFS' final decision of whether or not to promulgate the requested ITR and issue the LOA will be documented in a separate Decision Memorandum prepared in accordance with internal NMFS policy and procedures. The final ITR and a notice of issuance of the LOA, if issued, will be published in the Federal Register. The LOA would authorize Sunrise Wind to take small numbers of marine mammals incidental to Project construction and would set forth permissible methods of incidental taking, means of affecting the least practicable adverse impact on the species and their habitat, and requirements for monitoring and reporting. Pursuant to section 7 of the Endangered Species Act (ESA), NMFS issued a final Biological Opinion to BOEM on September 28, 2023, evaluating the effects of the proposed action on ESA-listed species. The proposed action in the Biological Opinion includes the associated permits, approvals, and authorizations that may be issued.

The NPS has adopted BOEM's final EIS to support its decision to issue a ROW permit and two SUPs to Sunrise Wind. These permits would allow Sunrise Wind to access certain waters and submerged lands of the Seashore in order to connect to the onshore grid from inside Smith Point County Park, which is contained within the Seashore's legislated boundaries, and carry out construction within the Seashore and in both the Atlantic Ocean and the intracoastal waterway between Fire Island and Long Island. NPS' decision to grant these permits will be further documented in the forthcoming permits, including permit terms and conditions, in accordance with internal NPS policy and procedures.

Authority: National Environmental Policy Act of 1969, as amended, (42 U.S.C. 4321 et seq.); 40 CFR 1505.2.

Karen Baker,
Chief, Office of Renewable Energy Programs, Bureau of Ocean Energy Management.

[FR Doc. 2024-06752 Filed 3-28-24; 8:45 am]

BILLING CODE 4340-98-P